DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

New Epitopes Recognized by Antibodies Against Human and Avian Influenza for Vaccines and Diagnostic Assays

Description of Technology: Available for licensing and commercial development are intellectual properties drawn to peptides and polypeptides that elicit immunogenic responses in a mammal; especially neutralizing antibodies, against human and avian influenza strains H1N1, H3N2, H5N1 and H7N7. Materials in the form of immunogenic compositions including these peptides and polypeptides can also be in-licensed along with the patent rights. Pharmaceutical compositions including these peptides and polypeptides with or without adjuvants are within the scope of the invention. Nucleic acids and expression cassettes encoding these peptides and polypeptides are also within the scope of the invention. Methods of inhibiting infection by influenza, with or without cell entry, are also within the scope of the invention using the aforementioned peptides and polypeptides.

Applications: Vaccines; Therapeutics; Diagnostics; Influenza.

Inventors: Hana Golding and Surender Khurana (FDA).

Patent Status: U.S. Provisional Application No. 60/929,119 filed 13 June 2007 (HHS Reference No. E-236-2007/0-US-01).

Licensing Status: Available for licensing.

Licensing Contact: Michael A. Shmilovich, Esq.; 301/435-5019; shmilovm@mail.nih.gov.

Collaborative Research Opportunity: The FDA/CBER Laboratory of Retrovirus Research is seeking statements of capability or interest from parties interested in collaborative research to further develop, evaluate, or commercialize this technology. Please contact Beatrice A. Droke at 301/827-7008 or bdroke@oc.fda.gov for more information.

Trifunctional Imaging Agent for Monoclonal Antibody Tumor-Targeted Imaging

Description of Technology: Available for licensing and commercial development is a novel lysine-based trifunctional chelate which bears both a chelating moiety (CHX-A″) for sequestering radiometals (⁸⁶Y or ¹¹¹In) and a near-infrared dye, e.g., Cy5.5, for dual modality PET (or SPECT) and fluorescence imaging. Successful conjugation of monoclonal antibody trastuzumab (Herceptin) or cetuximab (Erbitux) has also been achieved by efficient thiol-maleimide chemistry, thereby yielding an immunoconjugate (Signaling agent (Cy5.5-Lys(SMCC)-CHX-A″) conjugated to trastuzumab) or (Signaling agent (Cy7-Lys(SMCC)-CHX-A″) conjugated to cetuximab). Both specifically target antigen expressing cells and internalization of the agent has been imaged over time. Trastuzumab can be radiolabeled with isothiocyanate derivatives of the bifunctional chelating agents 1B4M (2-(4-aminobenzyl)-6-methyldiethylenetriaminepentaacetic acid); and CHX-A″ (N-[(R)-2-amino-3-(p-aminophenyl)propyl]-trans-(S,S)-cyclohexane-1,2-diamine-N,N,N′,N″,N″-pentaacetic acid).

Applications: Imaging; Diagnostics.

Inventors: Martin W. Brechbiel, Heng Xu, Kwamena E. Baidoo (NCI).

Publication: H Xu et al. Design, synthesis, and characterization of a dual modality positron emission tomography and fluorescence imaging agent for monoclonal antibody tumor-targeted imaging. J Med Chem. 2007 Sep 20;50(19):4759-4765.

Patent Status: U.S. Provisional Application No. 60/929,913 filed 17 Jul 2007 (HHS Reference No. E-194-2007/0-US-01).

Licensing Status: Available for licensing.

Licensing Contact: Michael A. Shmilovich, Esq.; 301/435-5019; shmilovm@mail.nih.gov.

Collaborative Research Opportunity: The National Cancer Institute Radiation Oncology Branch is seeking statements of capability or interest from parties interested in collaborative research to further develop, Trifunctional Imaging Agent for Monoclonal Antibody Tumor-Targeted Imaging. Please contact John D. Hewes, PhD at 301-435-3121 or hewesj@mail.nih.gov for more information.

Nanoparticles for Imaging: Targeted Nanoparticles That Can Be Imaged Through Magnetic Resonance, Optical, and Radioisotope Imaging

Description of Technology: Available for licensing and commercial development are patent rights covering tri-imageable nanoparticles which have great potential for application in the laboratory and clinic for labeling at the cellular level, diagnostics, and drug delivery. The particle includes a silica encased ultrasmall superparamagnetic iron oxide (SPIONs) that can be detected using MRI. A fluorescent probe (e.g., Cy5.5) for optical imaging is embedded in the silica. The resulting particles are about 20-25nm in diameter. Target specific antibodies are attached to the surface of the particles. Chelated to the antibodies is a radioisotope (e.g., Indium-111) useful for particle quantification and can be imaged through techniques such as single photon emission computed tomography (SPECT) or positron emission tomography (PET). A graphical representation of an exemplary nanoparticle according to the invention is shown in the accompanying illustration.

Applications: Imaging; Cancer; Multiple Sclerosis.

Inventors: Martin W. Brechbiel (NCI), Peter L. Choyke (NCI), et al.

Patent Status: U.S. Provisional Application No. 60/907,085 filed 19 Mar 2007 (HHS Reference No. E-157-2007/0-US-01 and HHS Reference No. E-157-2007/1-US-01).

Licensing Status: Available for licensing.

Licensing Contact: Michael A. Shmilovich, Esq.; 301-435-5019; shmilovm@mail.nih.gov.

Collaborative Research Opportunity: The National Cancer Institute Radiation Oncology Branch is seeking statements of capability or interest from parties interested in collaborative research to further develop, evaluate, or commercialize these tri-imageable nanoparticles. Please contact John Hewes, PhD, at 301-435-3121 or hewesj@mail.nih.gov for more information.

Dated: November 27, 2007.
Steven M. Ferguson,
Director, Division of Technology Development and Transfer, Office of Technology Transfer, National Institutes of Health.

[FR Doc. E7-23514 Filed 12-4-07; 8:45 am]

BILLING CODE 4140-01-P